DEPARTMENT OF COMMERCE

Foreign-Trade Zones Board

[Order No. 1215]

Grant of Authority for Subzone Status; E.I. Dupont De Nemours and Company, Inc. (Chemicals Products), Circleville, OH

Pursuant to its authority under the Foreign-Trade Zones Act, of June 18, 1934, as amended (19 U.S.C. 81a-81u), the Foreign-Trade Zones Board (the Board) adopts the following Order:

Whereas, the Foreign-Trade Zones Act provides for “* * * the establishment * * * of foreign-trade zones in ports of entry of the United States, to expedite and encourage foreign commerce, and for other purposes,” and authorizes the Foreign-Trade Zones Board to grant to qualified corporations the privilege of establishing foreign-trade zones in or adjacent to U.S. Customs ports of entry;

Whereas, the Board's regulations (15 CFR part 400) provide for the establishment of special-purpose subzones when existing zone facilities cannot serve the specific use involved, and when the activity results in a significant public benefit and is in the public interest;

Whereas, the Rickenbacker Port Authority, grantee of Foreign-Trade Zone 138, has made application to the Board for authority to establish special-purpose subzone status at the chemical products manufacturing and warehousing facilities of E.I. duPont de Nemours and Company, Inc., located in Circleville, Ohio (FTZ Docket 17-2001, filed 4/23/01);

Whereas, notice inviting public comment was given in the Federal Register (66 FR 21739, 5/1/01); and,

Whereas, the Board adopts the findings and recommendations of the examiner's report, and finds that the requirements of the FTZ Act and the Board's regulations are satisfied, and that approval of the application is in the public interest;

Now, therefore, the Board hereby grants authority for subzone status at the chemicals products manufacturing and warehousing facilities of E.I. duPont de Nemours and Company, Inc., located in Circleville, Ohio (Subzone 138F), at the location described in the application, and subject to the FTZ Act and the Board's regulations, including § 400.28.

Signed at Washington, DC, this 29th day of March 2002.
Faryar Shirzad,
Assistant Secretary of Commerce for Import Administration, Alternate Chairman, Foreign-Trade Zones Board.

Dennis Puccinelli,
Executive Secretary.

[FR Doc. 02-8562 Filed 4-8-02; 8:45 am]

BILLING CODE 3510-DS-P